FEDERAL COMMUNICATIONS COMMISSION

47 CFR Part 64

[CG Docket Nos. 08-15 and 03-123; DA 13-2191]

Request for Comment on Petition Filed by AT&T Services, Inc., Regarding the Provision of Muting for Speech-to-Speech Telephone Services; Correction

AGENCY: Federal Communications Commission.

ACTION: Petition for clarification; request for comments; correction.

SUMMARY: In this document, the Federal Communications Commission (Commission) corrects a document published at 78 FR 76096, December 16, 2013. This document seeks comment on an AT&T Services, Inc., petition requesting clarification. The ACTION line incorrectly reflected the caption of the document; therefore, this document corrects the ACTION line to read “Petition for clarification; request for comments”.

DATES: December 30, 2013.

FOR FURTHER INFORMATION CONTACT: Caitlin Vogus, Consumer and Governmental Affairs Bureau, Disability Rights Office, (202) 418-1264, email: Caitlin.vogus@fcc.gov.

SUPPLEMENTARY INFORMATION:

Correction

In FR Doc. 2013-28829 published on December 16, 2013, on page 76096, in the second column, correct the ACTION caption to read: “ACTION: Petition for clarification; request for comments.”

Federal Communications Commission.
Gloria J. Miles,
Federal Register Liaison, Office of the Secretary, Office of Managing Director.

[FR Doc. 2013-31127 Filed 12-27-13; 8:45 am]

BILLING CODE 6712-01-P